ENVIRONMENTAL PROTECTION AGENCY

40 CFR Part 52

[CO-001-0044a; FRL-6875-5]

Approval and Promulgation of Air Quality Implementation Plans; State of Colorado; Colorado Springs Revised Carbon Monoxide Maintenance Plan, and Approval of a Related Revision

AGENCY: Environmental Protection Agency (EPA).

ACTION: Direct final rule.

SUMMARY: On May 10, 2000, the Governor of Colorado submitted a revised maintenance plan for the Colorado Springs carbon monoxide (CO) maintenance area for the CO National Ambient Air Quality Standard (NAAQS). In addition, the Governor also submitted revisions to Colorado's Regulation No. 13 “Oxygenated Fuels Program”. In this action, EPA is approving the Colorado Springs CO revised maintenance plan and the revisions to Regulation No. 13.

DATES: This direct final rule is effective on February 20, 2001 without further notice, unless EPA receives adverse comments by January 22, 2001. If adverse comment is received, EPA will publish a timely withdrawal of the direct final rule in the Federal Register and inform the public that the rule will not take effect.

ADDRESSES: Written comments may be mailed to: Richard R. Long, Director, Air and Radiation Program, Mailcode 8P-AR, United States Environmental Protection Agency, Region VIII, 999 18th Street, Suite 300, Denver, Colorado 80202-2466.

Copies of the documents relevant to this action are available for public inspection during normal business hours at the following offices:

United States Environmental Protection Agency, Region VIII, Air and Radiation Program, 999 18th Street, Suite 300, Denver, Colorado 80202-2466; and

United States Environmental Protection Agency, Air and Radiation Docket and Information Center, 401 M Street, SW, Washington, DC 20460.

Copies of the State documents relevant to this action are available for public inspection at:

Colorado Air Pollution Control Division, Colorado Department of Public Health and Environment, 4300 Cherry Creek Drive South, Denver, Colorado, 880246-1530.

FOR FURTHER INFORMATION CONTACT: Tim Russ, Air and Radiation Program, Mailcode 8P-AR, United States Environmental Protection Agency, Region VIII, 999 18th Street, Suite 300, Denver, Colorado 80202-2466; Telephone number: (303) 312-6479.

SUPPLEMENTARY INFORMATION: Throughout this document wherever “we,” “us,” or “our” are used we mean the Environmental Protection Agency.

I. What is the Purpose of This Action?

In this action, we are approving a revised maintenance plan for the Colorado Springs CO attainment/maintenance area, that is designed to keep the area in attainment for CO through 2010, and we're also approving changes to the State's Regulation No. 13 for the removal of the requirement for the implementation of the wintertime oxygenated fuels program in the Colorado Springs area.

We approved the original CO redesignation request to attainment, a maintenance plan, and revisions to Regulation No. 13 (hereafter, Reg. 13) for the Colorado Springs area on August 25, 1999 (see 64 FR 46279) which became effective on October 25, 1999.

The Governor's May 10, 2000, submittal includes changes to the original maintenance plan that: revises the attainment year from 1993 to 1990 and provides a new 1990 attainment year inventory; revises the maintenance demonstration with a revised 2010 projected emission inventory; revises Reg. 13 to eliminate the oxygenated gasoline program in El Paso County starting with the winter season of 2000-2001; revises the transportation CO emission budgets; and revises a portion of the contingency measures plan. We have determined that these changes are approvable as further described below.

II. What is the State's Process to Submit These Materials to EPA?

Section 110(k) of the CAA addresses our actions on submissions of revisions to a SIP. The CAA requires States to observe certain procedural requirements in developing SIP revisions for submittal to us. Section 110(a)(2) of the CAA requires that each SIP revision be adopted after reasonable notice and public hearing. This must occur prior to the revision being submitted by a State to us.

The Colorado Air Quality Control Commission (AQCC) held a public hearing for the revised Colorado Springs Carbon Monoxide (CO) Maintenance Plan on February 17, 2000. The AQCC adopted the revised maintenance plan directly after the hearing. This SIP revision became State effective on April 30, 2000, and was submitted by the Governor to us on May 10, 2000.

For the Regulation No. 13 revision, the AQCC held a public hearing to consider the changes to Regulation No. 13, that involved the elimination of the oxygenated gasoline program for El Paso County, on February 17, 2000. The AQCC adopted these changes directly after the February 17, 2000, public hearing. They became State effective on April 30, 2000, and were also submitted to us on May 10, 2000.

We have evaluated the Governor's submittal for the revised maintenance plan and changes to Regulation No. 13 and have determined that the State met the requirements for reasonable notice and public hearing under section 110(a)(2) of the CAA. We reviewed these SIP materials for conformance with the completeness criteria in 40 CFR part 51, appendix V and determined that the submittals were administratively and technically complete. The Governor was advised of our completeness determination through a letter from Rebecca W. Hanmer, Acting Regional Administrator, dated August 7, 2000.

III. EPA's Evaluation of the Revised Maintenance Plan

EPA has reviewed the State's revised maintenance plan for the Colorado Springs maintenance/attainment area and believes that approval is warranted. The following are the key aspects of this revision along with our evaluation of each:

(a) The State changed the attainment year from 1993 to 1990 and provided a new 1990 emissions inventory.

This is acceptable as the Colorado Springs area was attaining the CO NAAQS in 1990 (based on data from 1990 and 1991 which are archived in our Aerometric Information and Retrieval System—AIRS) and this conforms to our September 4, 1992, redesignation guidance memorandum, signed by John Calcagni, Director of the Air Quality Management Division, entitled “Procedures for Processing Requests to Redesignate Areas to Attainment” (hereafter the “Calcagni memorandum”). Further, the area must show continuous attainment of the CO NAAQS from 1990 to present. We have reviewed the air quality data in AIRS from 1990 to present and have determined that the Colorado Springs area has not violated the CO standard and continues to demonstrate attainment.

(b) The State revised the projected emission inventories, out to 2010, and continues to demonstrate maintenance for the Colorado Springs area.

Revised emission projections for the years 2001, 2002, 2005, and 2010 (we note that 2015 and 2020 are also included for conformity purposes) that include all source categories (point, area, non-road, and on-road) and reflect the elimination of the oxygenated fuels program are presented in “Table 3. Carbon Monoxide Emissions for Future Years in Colorado Springs without the Oxygenated Fuels Program” of the revised maintenance plan and are archived below. All emission calculations and assumptions are provided in the State's Technical Support Document (TSD). As shown in the maintenance plan's Table 3. and in our Table III-1 below, emissions for all future projected year inventories are less than the 1990 levels. Therefore, the area continues to demonstrate maintenance for the CO standard.

Table III-1.—Summary of CO Emissions in Tons Per Day for Colorado Springs
| 1990 | 2001 | 2002 | 2005 | 2010
Emissions from Point, Area, & Non-road Sources | 85 | 98 | 99 | 100 | 100
On-Road Mobile Sources (without Oxyfuels in 2001 and beyond) | 295 | 209 | 203 | 194 | 193
Total | 380 | 307 | 302 | 294 | 293

(c) The State has modified Regulation No. 13 to eliminate the Oxygenated Fuels Program for El Paso County and the Colorado Springs area.

The State performed an analysis and determined that the oxygenated fuels program could be eliminated for the Colorado Springs area without jeopardizing maintenance of the CO NAAQS. This analysis was performed using EPA's MOBILE5b emission factor model and the latest transportation and planning data from the Pike's Peak Area Council of Governments (PPACG) 2020 transportation plan. The methodology and analysis were reviewed by us and we have determined they are acceptable. The results of the modeling were presented in the revised maintenance plan's “Table 1.,” “Table 2.,” and “Table 3” and are also included in our Table III-1 above. Based on our review of the State's analysis, we agree that the Colorado Springs area continues to demonstrate maintenance of the CO NAAQS and approve the elimination of the oxygenated fuels program for El Paso County and the Colorado Springs area.

(d) The State modified the Contingency Provisions section of the maintenance plan.

With the elimination of the oxygenated fuels program for the Colorado Springs area, the State revised the contingency measures list in section “E. Contingency Provisions” to now contain the reinstatement of the 2.7% oxygenated fuels program as a contingency measure that could be implemented should the Colorado Springs area violate the CO NAAQS. Also, the State removed the prior nonattainment area regulatory requirement that an enhanced inspection and maintenance program be a pre-approved contingency measure. An enhanced inspection and maintenance program now appears on the same list as the 2.7% oxygenated fuels program as possible contingency measures for consideration, adoption, and implementation should a violation of the CO NAAQS occur. We agree with the above revisions to the “Contingency Provisions” section of the maintenance plan.

IV. EPA's Evaluation of the Transportation Conformity Requirements

One key provision of our conformity regulation requires a demonstration that emissions from the transportation plan and Transportation Improvement Program are consistent with the emissions budgets in the SIP (40 CFR 93.118 and 93.124). The emissions budget is defined as the level of mobile source emissions relied upon in the attainment or maintenance demonstration to maintain compliance with the NAAQS in the nonattainment or maintenance area. The rule's requirements and EPA's policy on emissions budgets are found in the preamble to the November 24, 1993, transportation conformity rule (58 FR 62193-62196) and in the sections of the rule referenced above. Section C. of the revised Colorado Springs maintenance plan describes an emissions budget for on-road mobile sources. The revised section C. now states:

For the Colorado Springs attainment/maintenance area, the emissions budget is for the period 2001 and beyond and this budget utilizes the “margin of safety” provisions of EPA's transportation conformity rule. The rule indicates that where projected emissions from all sources are less than the amount demonstrating attainment, which is the case for the Colorado Springs area, the SIP may explicitly quantify the safety margin and include some of all of it in the motor vehicle emissions budget for purposes of conformity. When the calculations are made, there are different margins of safety for each interim year between 2001 and 2010, which could result in the establishment of different emissions budgets for each year. Because this is not practical, an emissions budget slightly less than the lowest potential emissions budget is adopted for all future years.”

The State then performed calculations (in tons per day, abbreviated as “tpd”) for each of the interim years such as in the example below for 2001:

380 tpd (1990 total emissions)—307 tpd (2001 total emissions) = 73 tpd (2001 margin of safety); 73 tpd + 209 tpd (2001 mobile emissions) = 282 tpd (potential emission budget for 2001)

The State then did the same calculations for the other interim years and came up with potential emission budgets of; 281 tpd for 2002, 280 tpd for 2005, and 280 tpd for 2010. In order to allow for uncertainties in non-mobile source emissions, and because all interim years' emissions between 2001 and 2010 were not determined, the State took the lowest potential emissions budget of 280 tpd and further reduced this to 270 tpd to allow for potential variations in emissions and to stay below the 1990 total attainment emission level of 380 tpd. The State then set this 270 tpd on-road mobile emissions budget for 2001 and beyond. We agree with the State's calculations and allocation of the margin of safety, and therefore, we are approving this 270 tpd mobile sources emission budget for 2001 and beyond.

This 270 tpd budget was then adopted into section V.A.4.b. of the Colorado AQCC's Ambient Air Quality Standards regulation (5 CCR 1001-14); however, the emissions budget definition in the table on page 18.01 of the Colorado Ambient Air Quality Standards regulation (5 CCR 1001-14) conflicts with the language in section C. of the maintenance plan and is internally inconsistent. Section C. of the maintenance plan states that the 270 tpd emission budget applies to 2001 and beyond; the table on page 18.01 of 5 CCR 1001-14 indicates that the emissions budget is 280 tpd in 2010 and beyond. Our interpretation, based on the language of the maintenance plan and our conformity rule, is that the maintenance plan's 270 tpd emission budget applies starting in 2001 and for all following years, superseding the incorrect language in 5 CCR 1001-14.

V. EPA's Evaluation of the Regulation No. 13 Revisions

Colorado's Regulation No. 13 is entitled “Oxygenated Fuels Program.” The purpose of revisions that were adopted by the AQCC on February 17, 2000, and submitted to us by the Governor on May 10, 2000, was to eliminate the oxygenated fuels program for El Paso County and the Colorado Springs area. EPA is allowed to approve this elimination of the oxygenated fuels program for El Paso County and the Colorado Springs area based on section 211(m)(6) of the CAA which states:

ATTAINMENT AREAS—Nothing in this subsection shall be interpreted as requiring an oxygenated gasoline program in an area which is in attainment for carbon monoxide, except that in a carbon monoxide nonattainment area which is redesignated as attainment for carbon monoxide, the requirements of this subsection shall remain in effect to the extent such program is necessary to maintain such standard thereafter in the area. The State has satisfied the above requirements of section 211(m)(6) as follows:

(a) The Colorado Springs area is in attainment for the CO NAAQS. EPA approved the Colorado Springs CO redesignation to attainment on August 25, 1999 (see 64 FR 46279, effective October 25, 1999). In addition, ambient air quality that have been archived in AIRS show that the Colorado Springs area has been in attainment for the CO NAAQS beginning with the period of 1990-1991 and the area has been in attainment for the CO NAAQS from that time to the present.

(b) The State has provided an adequate demonstration showing that the oxygenated fuels program is not needed to maintain the CO NAAQS for the Colorado Springs attainment area. This requirement was addressed with the State's revised maintenance plan for the Colorado Springs area. As presented in section “B. Emission Inventories and Maintenance Demonstration” of the revised maintenance plan, the State used EPA's MOBILE5b emission factor model to calculate mobile source emissions, without an oxygenated fuels program, for 2001, 2002, 2005, and 2010. For each projected year, mobile source emissions were less than the 1990 attainment year levels. When mobile source emissions were added to the other source categories for 2001, 2002, 2005, and 2010, total emissions for each year were still well below the 1990 attainment year levels. Therefore, elimination of the oxygenated fuels program will not interfere with continued maintenance of the CO NAAQS. In addition to the 1990 and 2010 region-wide inventories, the State prepared a 1990 and 2010 gridded emission inventory and evaluated projected growth in CO emissions in each grid cell. This assessment also indicated that the CO NAAQS would be maintained without an oxygenated fuels program.

Based on the above, the State concluded that the revisions to Regulation No. 13, to eliminate the oxygenated fuels program, would not jeopardize the revised maintenance plan's demonstration of maintenance for the CO NAAQS. We agree with the State's analysis provided in section “B.” of the revised maintenance plan and as further supported in the State's TSD. Therefore, we do not believe that the elimination of the oxygenated fuels program in El Paso County and the Colorado Springs area will impact the CO maintenance demonstration for the area.

In consideration of above, we have determined that we can approve the February 17, 2000, revisions to Regulation No. 13 as meeting the requirements of section 211(m)(6) of the CAA.

As noted previously, the revisions to Regulation No. 13 were adopted by the AQCC directly after a public hearing on February 17, 2000, became State effective on April 30, 2000, and were submitted to us by the Governor on May 10, 2000.

VI. Final Action

In this action, EPA is approving the revised Colorado Springs carbon monoxide maintenance plan and the revisions to Regulation No. 13.

EPA is publishing this action without prior proposal because the Agency views this as a noncontroversial amendment and anticipates no adverse comments. However, in the proposed rules section of this Federal Register publication, we are publishing a separate document that will serve as the proposal to approve the SIP revision should adverse comments be filed. This rule will be effective February 20, 2001 without further notice unless the Agency receives adverse comments by January 22, 2001.

If EPA receives such comments, then we will publish a timely withdrawal of the direct final rule informing the public that the rule will not take effect. All public comments received will then be addressed in a subsequent final rule based on the proposed rule. The EPA will not institute a second comment period on this rule. Any parties interested in commenting on this rule should do so at this time. If no such comments are received, the public is advised that this rule will be effective on February 20, 2001 and no further action will be taken on the proposed rule.

Administrative Requirements

(a) Executive Order 12866

The Office of Management and Budget (OMB) has exempted this regulatory action from Executive Order 12866, entitled “Regulatory Planning and Review.”

(b) Executive Order 12875: Enhancing the Intergovernmental Partnership

Under Executive Order 12875, EPA may not issue a regulation that is not required by statute and that creates a mandate upon a state, local, or tribal government, unless the Federal government provides the funds necessary to pay the direct compliance costs incurred by those governments, or EPA consults with those governments. If EPA complies by consulting, Executive Order 12875 requires EPA to provide to the Office of Management and Budget a description of the extent of EPA's prior consultation with representatives of affected state, local, and tribal governments, the nature of their concerns, copies of any written communications from the governments, and a statement supporting the need to issue the regulation. In addition, Executive Order 12875 requires EPA to develop an effective process permitting elected officials and other representatives of state, local, and tribal governments “to provide meaningful and timely input in the development of regulatory proposals containing significant unfunded mandates.”

Today's rule does not create a mandate on state, local, or tribal governments. The rule does not impose any enforceable duties on state, local, or tribal governments. Accordingly, the requirements of section 1(a) of Executive Order 12875 do not apply to this rule.

(c) Executive Order 13045

Executive Order 13045, Protection of Children from Environmental Health Risks and Safety Risks (62 FR 19885, April 23, 1997), applies to any rule that: (1) is determined to be “economically significant” as defined under Executive Order 12866, and (2) concerns an environmental health or safety risk that EPA has reason to believe may have a disproportionate effect on children. If the regulatory action meets both criteria, the Agency must evaluate the environmental health and safety effects of the planned rule on children, and explain why the planned regulation is preferable to other potentially effective and reasonably feasible alternatives considered by the Agency.

This rule is not subject to Executive Order 13045 because it does not involve decisions intended to mitigate environmental health or safety risks.

(d) Executive Order 13084: Consultation and Coordination With Indian Tribal Governments

Under Executive Order 13084, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 12084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. Accordingly, the requirements of section 3(b) of Executive Order 13084 do not apply to this rule.

(e) Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions. This final rule will not have a significant impact on a substantial number of small entities because SIP approvals under section 110 and subchapter I, part D of the Clean Air Act do not create any new requirements, but simply approve requirements that the State is already imposing. Therefore, because the Federal SIP approval does not create any new requirements, I certify that this action will not have a significant economic impact on a substantial number of small entities. Moreover, due to the nature of the Federal-State relationship under the Clean Air Act, preparation of a flexibility analysis would constitute Federal inquiry into the economic reasonableness of State action. The Clean Air Act forbids EPA to base its actions concerning SIPs on such grounds. Union Electric Co. v. U.S. EPA, 427 U.S. 246, 255-66 (1976); 42 U.S.C. 7410(a)(2). Therefore, I certify this rule will not affect a substantial number of small entities.

(f) Unfunded Mandates

Under section 202 of the Unfunded Mandates Reform Act of 1995 (“Unfunded Mandates Act”), signed into law on March 22, 1995, EPA must prepare a budgetary impact statement to accompany any proposed or final rule that includes a Federal mandate that may result in estimated costs to State, local, or tribal governments in the aggregate, or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, will result from this action.

(g) Submission to Congress and the Comptroller General

The Congressional Review Act, 5 U.S.C. 801 et seq., as added by the Small Business Regulatory Enforcement Fairness Act of 1996, generally provides that before a rule may take effect, the agency promulgating the rule must submit a rule report, which includes a copy of the rule, to each House of Congress and to the Comptroller General of the United States. EPA will submit a report containing this rule and other required information to the U.S. Senate, the U.S. House of Representatives, and the Comptroller General of the United States prior to the publication of the rule in the Federal Register. This rule is not a “major rule” as defined by 5 U.S.C. 804(2).

(h) Petitions for Judicial Review

Under section 307(b)(1) of the Clean Air Act, petitions for judicial review of this action must be filed in the United States Court of Appeals for the appropriate circuit by February 20, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Reporting and recordkeeping requirements.

Dated: September 14, 2000.
Patricia D. Hull,
Acting Regional Administrator, Region VIII.

Chapter I, title 40, part 52 of the Code of Federal Regulations are amended as follows:

PART 52—[AMENDED]

1. The authority citation for part 52 continues to read as follows:

Authority: 42 U.S.C. 7401 et seq.

Subpart G—COLORADO

2. Section 52.320 is amended by adding paragraph (c)(89) to read as follows:

§ 52.320 Identification of plan.

* * * * *

(c) * * *

(89 ) On May 10, 2000, the Governor of Colorado submitted revisions to Regulation No. 13 “Oxygenated Fuels Program” that eliminated the Oxygenated Fuels Program for El Paso County and the Colorado Springs CO attainment/maintenance area.

(i) Incorporation by reference.

(A) Regulation No. 13 “Oxygenated Fuels Program”, 5 CCR 1001-16, as adopted on February 17, 2000, effective April 30, 2000, as follows: Sections I.D.19, II.A, II.A.1, II.A.2, II.C.1.a, II.C.1.b., and II.C.1.c.

3. Section 52.349 is amended by adding paragraph (e) to read as follows:

§ 52.349 Control strategy: Carbon monoxide.

* * * * *

(e) Revisions to the Colorado State Implementation Plan, Carbon Monoxide Revised Maintenance Plan for Colorado Springs, as adopted by the Colorado Air Quality Control Commission on February 17, 2000, State effective April 30, 2000, and submitted by the Governor on May 10, 2000.

[FR Doc. 00-32300 Filed 12-21-00; 8:45 am]

BILLING CODE 6560-50-P